DEPARTMENT OF THE INTERIOR

Fish and Wildlife Service

[FWS-R1-ES-2011-N162;10120-1112-0000-F2]

Kawailoa Wind Energy Generation Facility, Oahu, HI; Draft Habitat Conservation Plan and Draft Environmental Assessment

AGENCY: Fish and Wildlife Service, Interior.

ACTION: Notice of availability; receipt of permit application.

SUMMARY: We, the U.S. Fish and Wildlife Service (Service), have received an application from Kawailoa Wind Power LLC (applicant), a subsidiary of First Wind LLC, for an incidental take permit (ITP) under the Endangered Species Act of 1973, as amended (ESA). The applicant is requesting a 20-year ITP pursuant to the ESA to authorize take of six species—four endangered birds, one threatened bird, and one endangered mammal (collectively these six species are hereafter referred to as the “Covered Species”). The permit application includes a draft habitat conservation plan (HCP) describing the applicant's actions and the measures the applicant will implement to minimize, mitigate, and monitor incidental take of the Covered Species, the ITP application also includes a draft Implementing Agreement (IA). The Service also announces the availability of a draft Environmental Assessment (EA) that has been prepared in response to the permit application in accordance with requirements of the National Environmental Policy Act (NEPA). The Service is making the permit application package and draft EA available for public review and comment.

DATES: All comments from interested parties must be received on or before October 11, 2011.

ADDRESSES: Please address written comments to Loyal Mehrhoff, Project Leader, Pacific Islands Fish and Wildlife Office, U.S. Fish and Wildlife Service, 300 Ala Moana Boulevard, Room 3-122, Honolulu, HI 96850. You may also send comments by facsimile to (808) 792-9581.

FOR FURTHER INFORMATION CONTACT: Aaron Nadig, Fish and Wildlife Biologist, U.S. Fish and Wildlife Service (see ADDRESSES above); telephone (808) 792-9400.

SUPPLEMENTARY INFORMATION: The applicant is requesting a 20-year ITP to authorize take of six species—four endangered birds, one threatened bird, and one endangered mammal: The endangered Hawaiian moorhen (Gallinula chloropus sandvicensis), Hawaiian coot (Fulica alai), Hawaiian duck (Anas wyvilliana), Hawaiian stilt (Himantopus mexicanus knudseni), Hawaiian hoary bat (Lasiurus cinereus semotus), and the threatened Newell's shearwater (Puffinus auricularis newelli).

Kawailoa Wind is also applying for an incidental take license (ITL) from the Hawaii Department of Land and Natural Resources (DLNR) to comply with State endangered species laws.

Availability of Documents

You may request copies of the permit application, which includes the draft HCP, IA, and EA, by contacting the Service's Pacific Islands Fish and Wildlife Office (see FOR FURTHER INFORMATION CONTACT above). These documents are also available electronically for review on the U.S. Fish and Wildlife Service Pacific Islands Fish and Wildlife Office Web site at http://www.fws.gov/pacificislands. Comments and materials the Service receives, as well as supporting documentation we use in preparing the NEPA document, will become part of the public record and will be available for public inspection by appointment, during regular business hours. Before including your address, phone number, e-mail address, or other personal identifying information in your comment, you should be aware that your entire comment—including your personal information—may be made publicly available at any time. While you can ask us in your comment to withhold your personal identifying information from public review, we cannot guarantee that we will be able to do so.

The Service specifically requests information from the public on whether the application meets the statutory and regulatory requirements for issuing a permit, and identification of any aspects of the human environment that should be analyzed in the EA. We are also soliciting information regarding the adequacy of the HCP to minimize, mitigate, and monitor the proposed incidental take of the Covered Species and to provide for adaptive management, as evaluated against our permit issuance criteria found in section 10(a) of the ESA (16 U.S.C. 1539(a)), and 50 CFR 13.21, 17.22, and 17.32. In compliance with section 10(c) of the ESA (16 U.S.C. 1539(c)), the Service is making the permit application package available for public review and comment for 45 days (see DATES section above).

Background

Section 9 of the ESA (16 U.S.C. 1538) and Federal regulations prohibit the take of fish and wildlife species listed as endangered or threatened. The term “take” means to harass, harm, pursue, hunt, shoot, wound, kill, trap, capture, or collect, or to attempt to engage in any such conduct. However, under section 10(a) of the ESA (16 U.S.C. 1539(a)), we may issue permits to authorize incidental take of listed fish and wildlife species. Incidental take is defined as take that is incidental to, and not the purpose of, carrying out an otherwise lawful activity. Regulations governing incidental take permits for threatened and endangered species are found at 50 CFR 17.32 and 17.22. If issued, the permittee would receive assurances under the Service's “No Surprises” regulations at 50 CFR 17.32(b)(5) and 50 CFR 17.22(b)(5).

Hawaii Governor Linda Lingle announced in October 2008 a comprehensive alternative energy agreement between the State of Hawaii and the electric companies operating in Hawaii. The initiative is aimed at decisively moving the State away from its dependence on fossil fuels for electricity and ground transportation and toward renewable energy. The State seeks to move Hawaii toward having 70 percent of its energy use coming from alternative energy sources by 2030.

The applicant proposes to construct and operate a new 70-megawatt (MW), 30-turbine commercial wind energy generation facility at Kawailoa on Kamehameha Schools' Kawailoa Plantation lands, approximately 4 miles northeast of Haleiwa town on the north shore of the island of Oahu, Hawaii. The proposed facility will consist of 30 wind turbine generators (WTGs), a maintenance building, an electrical substation, a battery energy storage system, an underground electrical collection system carrying electrical power from individual WTGs to the electrical substation, an overhead transmission line to connect the substation to the Hawaiian Electric Company transmission line, two permanent unguyed meteorological monitoring towers, and service roads to connect the new WTGs and other facilities to existing highways. Infrastructure development will also include installation, operation, and maintenance of up to four microwave dish antennae on two existing Hawaiian Telcom facilities near the summit of Mt. Kaala in the Waianae Mountains on the Island of Oahu.

The Kawailoa Wind Farm Project will supply wind-generated electricity to the Hawaiian Electric Company. The applicant has developed a draft HCP that addresses the incidental take of the six Covered Species that may occur as a result of the construction and operation of the Kawailoa Wind Farm Project over a period of 20 years. In addition, the draft HCP addresses proposed measures the applicant will implement to minimize, mitigate, and monitor incidental take of the Covered Species.

Another wind energy project, Kaheawa Wind Power I (KWP I), operating on the island of Maui has demonstrated impacts to the Hawaiian petrel (Pterodroma sandwichensis), Hawaiian goose (Branta sandvicensis), and Hawaiian hoary bat, which have collided with the wind turbine structures at this existing 30-megawatt (MW) 21-turbine project.

Hawaiian moorhen, Hawaiian duck, Hawaiian coot, and Hawaiian stilt are known to exist in wetland locations adjacent to the proposed Kawailoa Wind project site. These four Hawaiian waterbird species are at risk of injury and mortality from post construction wind operations (collisions with wind turbine generators). In addition to the anticipated take by the project, predator trapping poses some risk of harassment due to capture. Moorhen are attracted to traps and moorhen on Oahu have been documented entering live traps.

The Hawaiian hoary bat has been recorded within the project area through the use of acoustic monitoring devices. The data suggest that bat activity increases from March through November and is lowest or absent in the winter. Bat activity was recorded throughout the project area within a wide variety of landscape features, including clearings, along roads, along the edges of tree lines, in gulches and at irrigation ponds. Hawaiian hoary bats are at risk of injury and mortality from wind operations post construction (collisions with wind turbine generators).

The Newell's shearwater is a seabird species that spends a large part of the year at sea, forages in the open ocean, and breeds in the main Hawaiian Islands. Beginning in March and April, adults initiate breeding at colonial nesting grounds in the interior mountains of the main Hawaiian Islands. Fledglings (i.e., young birds learning how to fly) travel from the nesting colony to the sea in the fall (mid-September to mid-December). They are known to be attracted to artificially lighted areas, which can result in disorientation and subsequent fallout (ceasing to be able to fly and involuntarily descending) due to exhaustion. Adult seabirds can collide with buildings, towers, power lines, and other tall structures while flying at night between their nesting colonies and at-sea foraging areas. To date, no Newell's shearwaters have been found to have collided with any structures at wind farm facilities.

Proposed Plan

The draft HCP describes the impacts of take associated with the applicant's activities, and proposes a program to minimize and mitigate take of each of the Covered Species. The applicant is proposing the following mitigation measures on the islands of Oahu, Maui Nui and Kauai: (1) Predator control, fencing, wetland restoration, and vegetation maintenance for the protection of Hawaiian waterbirds at Ukoa Pond on Oahu; (2) restoration of wetland and forested upland habitat at Ukoa Pond for the protection of Hawaiian hoary bat; (3) restoration and management to include fencing, ungulate removal, and predator control of forested habitat on Oahu for Hawaiian hoary bat conservation; and (4) development and testing of a self-resetting cat trap that will be utilized at a Newell's shearwater seabird colony on Kauai. If incidental take of Newell's shearwater exceeds certain specified levels, or if the re-setting cat trap does not prove effective, the applicant will also develop translocation protocols for implementation in the Newell's shearwater recovery effort or contribute to a restoration fund for predator control, social attraction and translocation of Newell's shearwaters to Kahoolawe. The Kawailoa Wind HCP also includes avoidance and minimization measures that will significantly limit the take of listed species due to construction, operation and maintenance of the wind farm. This HCP incorporates adaptive management provisions to allow for modifications to the mitigation and monitoring measures as knowledge is gained during implementation.

The draft EA contains an analysis of three alternatives: (1) Issuance of the ITP to Kawailoa Wind on the basis of the activities described in the proposed HCP (Proposed Action); (2) impacts of issuing an ITP and approving an HCP for the alternate communications site; and (3) No Action (no permit issuance and no measures by the applicant to reduce or eliminate the take of covered species). The draft EA considers the direct, indirect, and cumulative effects of the alternatives, including any measures under the Proposed Action alternative intended to minimize and mitigate such impacts. The draft EA also identifies additional alternatives that were considered but not fully analyzed, as they did not meet the purpose and need of the Proposed Action.

The Service invites comments and suggestions from all interested parties on the draft documents associated with the permit application, and requests that comments be as specific as possible. In particular, information and comments regarding the following topics are requested: (1) Whether the proposed HCP sufficiently minimizes and mitigates the impacts of take to the covered species to the maximum extent practicable over its 20-year term; (2) additional adaptive management or monitoring provisions that may be incorporated into the Proposed Action alternative, and their benefits to listed species; (3) the direct, indirect, or cumulative effects that implementation of either alternative could have on the human environment; (4) other plans or projects that might be relevant to this action; and (5) any other information pertinent to evaluating the effects of the proposed action on the human environment.

Authority

This notice is provided under section 10(c) (16 U.S.C. 1539(c)) of the ESA and NEPA regulations (40 CFR 1506.6). The public process for the proposed Federal action will be completed after the public comment period, at which time we will evaluate the permit application, the HCP and associated documents (including the EA), and comments submitted thereon to determine whether or not the proposed action meets the requirements of section 10(a) (16 U.S.C. 1539(a)) of the ESA and has been adequately evaluated under NEPA.

Dated: August 10, 2011.
Richard R. Hannan,
Deputy Regional Director.

[FR Doc. 2011-21614 Filed 8-23-11; 8:45 am]

BILLING CODE 4310-55-P